DEPARTMENT OF HEALTH AND HUMAN SERVICES

Centers for Disease Control and Prevention

National Center for Environmental Health/Agency for Toxic Substances and Disease Registry

The Health Department Subcommittee of the Board of Scientific Counselors (BSC), CDC, National Center for Environmental Health (NCEH)/Agency for Toxic Substances and Disease Registry (ATSDR): Teleconference Meeting.

In accordance with section 10(a)(2) of the Federal Advisory Committee Act (Pub. L. 92-463), the Centers for Disease Control and Prevention, NCEH/ATSDR announces the following subcommittee teleconference meeting:

Times and Dates: 12:30 p.m.-2 p.m., June 4, 2007.

Place: Century Center, 1825 Century Boulevard, Atlanta, Georgia 30345.

Status: Open to the public. Teleconference access limited only by availability of telephone ports.

Purpose: Under the charge of the Board of Scientific Counselors, NCEH/ATSDR, the HDS Subcommittee will provide the BSC, NCEH/ATSDR with advice and recommendations on local and state health department issues and concerns that pertain to the mandates and mission of NCEH/ATSDR.

Matters To Be Discussed: The meeting will include a review of the agenda; approval of minutes from the last conference call; a discussion of recommendations, work plan and comments from the BSC; public comment and the next steps for the HDS.

Items are subject to change as priorities dictate.

SUPPLEMENTARY INFORMATION: This teleconference meeting is scheduled to begin at 12:30 p.m. Eastern Daylight Savings Time. To participate, please dial 877/315-6535 and enter conference code 383520. The public comment period is scheduled from 1:20-1:30 p.m.

FOR FURTHER INFORMATION CONTACT: Shirley D. Little, Committee Management Specialist, NCEH/ATSDR, 1600 Clifton Road, Mail Stop E-28, Atlanta, GA 30303; telephone 404/498-0615, fax 404/498-0059; E-mail: slittle@cdc.gov.

The Director, Management Analysis and Services Office has been delegated the authority to sign Federal Register notices pertaining to announcements of meetings and other committee management activities for both CDC and the Agency for Toxic Substances and Disease Registry.

Dated: April 27, 2007.
Elaine L. Baker,
Acting Director, Management Analysis and Services Office, Centers for Disease Control and Prevention.

[FR Doc. E7-8561 Filed 5-3-07; 8:45 am]

BILLING CODE 4163-18-P